POSTAL SERVICE

39 CFR Part 111

New Standards for Letter-Sized Booklets

AGENCY: Postal Service™.

ACTION: Final rule.

SUMMARY: The Postal Service adopts new Mailing Standards of the United States Postal Service, Domestic Mail Manual (DMM®) to reflect changes to the construction and sealing of letter-sized booklets mailed at automation, presorted machinable or carrier route letter prices. We also adopt a definition of booklets and clarify weight standards for letter-sized mail.

DATES: Effective Date: September 8, 2009.

FOR FURTHER INFORMATION CONTACT: Krista Finazzo, 202-268-7304; Bill Chatfield, 202-268-7278; or Susan Thomas, 202-268-7268.

SUPPLEMENTARY INFORMATION: On December 29, 2008, a proposed rule was published in the Federal Register (73 FR 79430-79435), that provided information on changes to tab placement and construction of folded self-mailers and booklets. The proposed rule followed two years of collaborative work with mailers to analyze and test a wide variety of letter-size booklets and other letter-size mailpiece designs. In response to the proposed rule, the Postal Service received more than 900 comments.

On February 3, 2009, a revision to our original proposal was announced in the DMM Advisory and PCC Insider indicating that the design and tab placement changes for folded self-mailers would become optional recommendations instead of requirements. Current standards for folded self-mailers will remain in effect and we will continue to work with the mailing community to test various folded self-mailer designs. Mailers' Technical Advisory Committee (MTAC) member associations that have an interest in folded self-mailers will coordinate the opportunity to participate in our research. We will publish recommendations regarding folded self-mailers in September 2009. An additional proposed rule for folded self-mailers will be published upon completion of the test of mailer-supplied sample pieces.

Changes for Booklets

General

This final rule includes the new required DMM standards for design, preparation, and sealing of machinable and automation letter-size booklets. We also describe in this final rule, recommended upgrades to the new requirements. We base these recommendations on observations of a wide variety of booklets tested and observed over the past several years. Following these recommendations will minimize mailpiece damage and maximize the efficient processing of booklets.

Definition

Booklets consist of bound sheets or pages. Binding methods that are compatible with machinable processing include perfect binding, permanent fastening with at least two staples in the manufacturing fold (saddle stitched), pressed glue, or another binding method that creates a nearly uniformly thick mailpiece. Spiral bindings are not machinable so booklets prepared with spiral bindings do not qualify for automation prices. Large booklets may be folded to letter-size for mailing if the final mailpiece remains uniform in thickness.

Physical Characteristics

The maximum height for all machinable and automation booklets is six inches and the maximum length can vary between 9 and 10½ inches, depending on the booklet design. The minimum thickness for booklets is 0.009 inch and the maximum thickness is 0.25 inch regardless of size. Thickness is measured at the spine of the mailpiece.

The current maximum weight of 3 ounces has not changed and is applicable to all mailpieces prepared without envelopes. However, to improve machinability we recommend reducing the length of 3-ounce booklets to a final trim size of 9 inches.

Cover stock requirements vary with 40-pound minimum basis weight for folded booklet designs and 60- or 70-pound minimum basis weight for pieces longer than 9 inches. Lighter-weight paper tends to be easily damaged in processing equipment. The use of paper that is 10 pounds heavier than the required minimum basis weight is recommended for better processing performance. We strongly recommend using a minimum of 70-pound paper as cover stock on mailpiece designs that approach maximum booklet dimensions. References to paper weights are for book-grade paper unless otherwise specified. A paper grade conversion table is included in DMM Exhibit 201.3.2 for reference.

The bottom edge of booklets must be a bound edge or fold unless the mailpiece is prepared as an oblong booklet. Oblong booklets must be prepared with a spine on the leading edge. Booklets with a spine on the trailing edge are nonmachinable.

Tabs used to seal booklets must not have perforations. Generally, booklets need three 1½-inch tabs as closures. For larger or heavier booklets, we recommend 2-inch paper tabs. Glue spots or a continuous glue line may be used to seal some booklet designs.

Booklets that do not comply with the new standards will not be eligible for machinable or automation letter prices. Nonmachinable booklets will be assessed a surcharge (for First-Class Mail®), pay nonmachinable prices (for Standard Mail®), or pay nonbarcoded prices (for Periodicals).

Overview of Comments

We received more than 900 customer comments in response to the proposed standards. Of these, 79 noted concerns about booklet design changes. Many commenters expressed concerns about multiple issues. Below we describe all comments and not those exclusively about booklets.

There were 442 comments concerning tabs without perforations. Of these, 287 were form letters or parts of form letters stating that tabs without perforations would make mailpieces hard to open for the elderly and infirm. Six came from manufacturers of tabs. Two mail preparers claim that mail with solid tabs went unread. At the request of a group of mail owners, one mail preparer completed a 6-month study of response rates to mailpieces prepared with three solid tabs. No appreciable change in response rate occurred.

Booklets with tabs that fail during high-speed processing sustain damage and cause damage to other mailpieces. Our tests revealed that tabs with perforations are easily broken, often do not maintain their integrity, and are damaged in transport prior to entering the mailstream. To minimize tab failure, tabs used to seal booklets claiming automation or machinable prices may not be perforated. Solid tabs made of plastic, vinyl, translucent paper, opaque paper, or cellophane tape is acceptable.

Tab placement generated 401 responses. Commenters cited the lack of machinery capable of applying two tabs on the leading edge and one tab on the trailing edge of each booklet, the cost of upgrading existing tabbing equipment, and the amount of extra space required to install upgrades as reasons why they objected to the proposed standards for tab placement. Three commenters stated that the tabbing systems they purchased would become obsolete because they can only apply tabs on the top open edges. There were 170 mailers concerned about tab size. They objected to the introduction of minimum tab sizes that exceed one inch because their equipment couldn't apply tabs larger than one inch.

We realize that using different size tabs on booklets, adding an additional tab to the leading edge, and affixing them in locations that were until now optional, will require some adjustments to customer manufacturing processes. Some customers are already producing and mailing booklets with the tabbing configurations required by the new standards despite the obstacles mentioned. In addition, at least one manufacturer of tabbing machines is advertising a unit with the capability of tabbing mail in the proposed locations.

Mailer and controlled tests demonstrate that using 1½-inch tabs to seal booklets in place of the smaller 1-inch tabs improved the productivity of processing. Sorting booklets sealed with 1½-inch tabs still reduced machine throughput compared to processing other letter-size pieces. To improve productivity and processing, 1½-inch tabs are required. We will continue to monitor booklet processing performance.

The increase in the number of tabs required to seal booklets generated 179 comments. Remarks focused on the absence of notification, with some commenters stating that the mailings they present now are not generating error reports from the plants that process them. As booklet volumes increase in the mailstream, processing operations must divert these mailings to manual or flat mail operations to avoid mailpiece damage and machine down time. The USPS generated numerous irregularity reports concerning poorly prepared booklets over the past several years. These reports have documented instances of jammed machines and torn mailpieces. Our experiences processing booklets as live mailpieces and in a variety of controlled and customer-supplied mailpiece tests show that the new standards are needed. Customers who observed their own booklets being tested acknowledged that although their mail is currently being charged automation or machinable prices, it cannot be machine sorted.

A number of commenters stated that we did not justify the amount of added workload applying additional tabs would impose on the customer. Testing demonstrated that the machine throughput when processing booklets with two 1-inch tabs on the top edge was half the throughput for booklets with two 1½-inch tabs on the lead edge and one tab on the trailing edge, and almost one fourth the throughput for enveloped letter mail. Therefore, we believe this warrants the changes.

Many commenters objected to the definition of a folded self-mailer. The definition of folded self-mailers will be refined in conjunction with a subsequent phase of testing customer-supplied samples and will be published at a later date as part of the changes to folded self-mailer standards indicated by test results.

Only 31 customers expressed concerns about standards for static charge and coefficient of friction. Some commenters wanted to know where to buy paper that conformed to the standards while others asked how mail would be tested for these characteristics in the acceptance units. We recommend this requirement while further methods are explored to measure these standards. We recommend testing your mailpieces for static charge and coefficient of friction when possible.

Forty-nine commenters asked that we delay changing standards for booklets and folded self-mailers until the economy turns around. We believe that implementing standards for booklets will improve the processing and cost effective handling of these pieces. However, we will work with the mailing community to further refine standards for folded self-mailers.

Some commenters wondered how they could determine if their mailpiece was made of high tear strength paper. Paper distributors generally recognize which of their products have high tear strength, and most papers sold in office supply stores have adequate tear strength. High tear strength paper has properties like a high fiber length, a low degree of beating, and for machine-made papers, fiber orientation. Mailpieces made of high tear strength paper can be sorted on automated processing equipment without tearing or shattering.

Some commenters objected to the increase in required paper grade for the covers of booklets. Paper values published in the DMM varied by product. Our new booklet illustrations and descriptions are based on book-grade paper. Paper grades are printed on the packaging of reams, boxes, and rolls of paper.

The maximum weight of automation letters was a concern for some customers. The proposal did not change the maximum allowable weight for booklets. According to current standards in DMM 201.3.14.4, letters that weigh more than 3 ounces must be prepared in a sealed envelope, therefore booklets weighing more than 3 ounces must be prepared in sealed envelopes. Our standards reflect this required mailpiece characteristic.

Based on the results of continued testing, a modification to the standards was published in the Federal Register on December 29, 2008, increasing the amount of acceptable tab overhang from 1/32 of an inch to 1/16 of an inch.

The Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR part 111 is amended as follows.

PART 111—[AMENDED]

1. The authority citation for 39 CFR part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

Mailing Standards of the United States Postal Service, Domestic Mail Manual (DMM)

* * * * *

200 Commercial Mail Letters and Cards

201 Physical Standards

1.0 Physical Standards for Machinable Letters and Cards

1.1 Physical Standards for Machinable Letters

* * * * *

1.1.3 All Machinable Letters

[Revise the first sentence of 1.1.3 as follows:]

All pieces of First-Class Mail and Standard Mail machinable letters must meet the standards for automation-compatible letters in 201.3.0. * * *

* * * * *

3.0 Physical Standards for Automation Letters and Cards

[Revise text of 3.1 as follows:]

3.1 Basic Standards Automation Letters and Cards

Letters and cards claimed at any machinable, automation, or Standard Mail carrier route price, must meet the standards in 3.0. Unless prepared as a folded self-mailer, booklet, or postcard under 3.14 through 3.16, each machinable or automation letter must be a sealed envelope (the preferred method) or, if unenveloped, must be sealed or glued completely along all four sides.

[Delete current 3.4 through 3.6 in their entirety.]

[Renumber current 3.2 through 3.3 as new 3.3 through 3.4.]

[Add new 3.2 as follows:]

3.2 Paper Weight

Mailpieces should be constructed from high tear strength paper stock. All references in 3.0 to paper basis weight are for book-grade paper unless otherwise stated. The conversion table in Exhibit 3.2 provides a paper basis weight cross-reference.

Exhibit 3.2 Paper Basis Weight Conversion Table

Note: Paper basis weight is based on the weight of 500 sheets of: 25 x 38 inch sheets of book-grade paper, 17 x 22 inch bond-grade paper, 20 x 26 inch sheets of cover-grade paper, 24 x 36 inch sheets of newsprint. For example, if 500 sheets of book-grade paper weigh 39 pounds, the paper is considered 39-pound book paper.

Book wt. | Bond wt. | Cover wt. | Newsprint wt.
39 | 15 | 21 | 35
40 | 16 | 22 | 36
50 | 20 | 27 | 45
55 | 22 | 30 | 50
60 | 24 | 33 | 55
70 | 28 | 40 | 64
75 | 30 | 41 | 68
80 | 31 | 44 | 73
90 | 36 | 50 | 82
100 | 40 | 56 | 91
110 | 44 | 60 | 100
128 | 50 | 70 | 116

[Revise heading and introductory text of renumbered 3.3 as follows:]

3.3 Dimensions and Shape

Each machinable or automation letter-sized piece must be rectangular (see 1.1.1) and must meet the following standards (see 3.15 for booklets):

* * * * *

[Add new 3.5 as follows:]

3.5 Maximum Weight, Machinable and Automation Letters and Cards

The following maximum weight limits apply:

a. Booklets and folded self-mailers—3 ounces.

b. Machinable enveloped letters and cards—3.3 ounces.

c. Automation enveloped letters and cards—3.5 ounces (see 3.6 for pieces over 3 ounces.)

[Renumber current 3.14.4 as new 3.6 and revise heading and text as follows:]

3.6 Heavy Letter Mail (Over 3 Ounces)

Heavy letter mail (letter-size pieces over 3 ounces) must be prepared in a sealed envelope, may not contain stiff enclosures, and must have an 11-digit delivery point POSTNET or an Intelligent Mail barcode with a routing code in the address block (see 202.5.0).

* * * * *

[Revise heading and text of 3.11 as follows:]

3.11 Tabs, Tape, and Glue

Tabs on booklets must be at least 1½ inches in width. The tab placement standards in 3.15 are subject to ¼-inch variance in either direction. Tabs may be made of opaque paper, translucent paper, vinyl or plastic, and must not contain perforations. Cellophane tape may also be used as a closure. The following standards also apply:

a. Translucent paper tabs should be made of paper with a minimum of 40-pound basis weight.

b. Opaque paper tabs should be made of a minimum of 60-pound basis weight paper with a tear strength of at least 56 grams of force in the machine direction (MD) and 60 grams of force in the cross direction (CD).

c. Tabs in the barcode clear zone must have a paper face meeting the standards for background reflectance and, if the barcode is not preprinted by the mailer, the standards for acceptance of water-based ink.

d. Vinyl tabs and cellophane tape closures are not acceptable within the barcode clear zone.

e. Tabs must be tight against the edge of the mailpiece. A maximum 1/16-inch overhang is recommended.

f. Glue spots may be used in lieu of tabs and must be placed within ¾-inch of the open edges (see Exhibit 201.3.11.f).

Exhibit 201.3.11.f Glue Spot Placement

g. Continuous glue lines may be used as cover-to-cover seals and must be placed along the entire length of the open edge and end no more than ¾-inch from the open ends (see Exhibit 201.3.11.g).

Exhibit 201.3.11.g Glue Line Placement

* * * * *

[Revise the title of 3.14 and restructure as follows:]

3.14 Folded Self-Mailers

[Add new 3.14.1 to read as follows:]

3.14.1 General

The standards in 3.14.2 for folded self-mailers are basic requirements.

[Renumber current 3.14.1 as new 3.14.2.]

[Renumber current 3.14.2 as new 3.15 and revise as follows:]

3.15 Booklets

3.15.1 Definition

Booklets must have a bound edge. Sheets that are fastened with at least two staples in the manufacturing fold (saddle stitched), perfect bound, pressed-glued, or joined together by another binding method that produces an end where pages are attached together are considered booklets. Booklets are open on three sides before sealing, similar in design to a book. In general, booklets must be uniformly thick. Large bound booklets that are folded for mailing qualify for automation and machinable prices if the final mailpiece remains nearly uniform in thickness.

3.15.2 Paper

Booklet covers generally must be made with a minimum paper basis weight of 60-pounds or equivalent. Minimum basis weights are higher for some designs (see 3.15.4).

3.15.3 Physical Standards for Booklets

Booklets must be:

a. Height: Not more than 6 inches or less than 3.5 inches high.

b. Length: Not more than 10.5 inches or less than 5 inches long. See Exhibit 3.15.4 for some booklet designs with shorter maximum lengths.

c. Thickness: Not more than 0.25 inch or less than 0.009 inch thick.

d. Weight: Not more than 3 ounces.

e. Aspect ratio: Within 1.3 to 2.5 (see 201.3.1).

3.15.4 Booklet Design and Sealing

Booklets may be designed with the spine or final fold at the bottom or on the leading edge. See Exhibit 3.15.4 for design and sealing standards.

BILLING CODE 7710-12-P

[Renumber current 3.14.3 as new 3.16.]

[Renumber current 3.14.4 as new 3.6.]

[Renumber current 3.15 as new 3.17.]

* * * * *

We will publish an appropriate amendment to 39 CFR part 111.

Stanley F. Mires,
Chief Counsel, Legislative.

[FR Doc. E9-8532 Filed 4-14-09; 8:45 am]

BILLING CODE 7710-12-C